EXPORT-IMPORT BANK

[Public Notice: EIB-2025-0004]

Application for Final Commitment for a Long-Term Loan or Financial Guarantee in Excess of $100 Million: AP099782XX, AP099782XA, & AP099782XB

AGENCY: Export-Import Bank of the United States.

ACTION: Notice.

SUMMARY: This Notice is to inform the public, in accordance with the Export-Import Bank Act of 1945, as amended, the Export-Import Bank of the United States (“EXIM”) has received an application for final commitment for a long-term loan or financial guarantee in excess of $100 million. Comments received within the comment period specified below will be presented to the EXIM Board of Directors prior to final action on this Transaction.

DATES: Comments must be received on or before June 23, 2025 to be assured of consideration before final consideration of the transaction by the Board of Directors of EXIM.

ADDRESSES: Comments may be submitted through Regulations.gov at www.regulations.gov. To submit a comment, enter EIB-2025-0004 under the heading “Enter Keyword or ID” and select Search. Follow the instructions provided at the Submit a Comment screen. Please include your name, company name (if any) and EIB-2025-0004 on any attached document.

SUPPLEMENTARY INFORMATION:

Reference: AP099782XX, AP099782XA, & AP099782XB.

Purpose and Use:

Brief description of the purpose of the transaction: To support the export of U.S.-manufactured commercial aircraft to Turkiye.

Brief non-proprietary description of the anticipated use of the items being exported: To provide passenger and cargo air transport between Turkiye and other countries.

To the extent that EXIM is reasonably aware, the item(s) being exported may be used to produce exports or provide services in competition with the exportation of goods or provision of services by a United States industry.

Parties:

Principal Supplier: The Boeing Company and GE Aerospace.

Obligor: Turk Hava Yollari A.O.

Guarantor(s): N/A.

Description of Items Being Exported: Boeing commercial jet aircraft.

Information on Decision: Information on the final decision for this transaction will be available in the “Board Agenda and Meeting Minutes” on https://www.exim.gov/news/meeting-minutes.

Confidential Information: Please note that this notice does not include confidential or proprietary business information; information which, if disclosed, would violate the Trade Secrets Act; or information which would jeopardize jobs in the United States by supplying information that competitors could use to compete with companies in the United States.

Authority: Section 3(c)(10) of the Export-Import Bank Act of 1945, as amended (12 U.S.C. 635a(c)(10)).

Deidre Hodge,
Assistant Corporate Secretary.

[FR Doc. 2025-09445 Filed 5-23-25; 8:45 am]

BILLING CODE 6690-01-P